OFFICE OF THE UNITED STATES TRADE REPRESENTATIVE

Renewal of Treatment on Government Procurement of Products From Counties Designated Under the Caribbean Basin Economic Recovery Act

AGENCY: Office of the United States Trade Representative (USTR).

ACTION: Renewal of treatment on Government Procurement of Products from Countries Designated under the Caribbean Basin Economic Recovery Act.

Under the authority delegated to me by the President in section 1-201 of Executive Order 12260 of December 31, 1980, I hereby direct that products of countries, listed below, designated by the President as beneficiaries under the Caribbean Basin Economic Recovery Act (19 U.S.C. 2701, et seq.), with the exception of the Dominican Republic and Honduras, shall continue to be treated as eligible products for purposes of section 1-101 of Executive Order 12260 until September 30, 2000. Such treatment shall not apply to products originating in these countries that are excluded from duty free treatment under 19 U.S.C. 2703(b). Decisions on the subsequent renewal of this treatment beyond September 30, 2000 will be based on beneficiaries' effort to improve domestic procurement practices, on their support for relevant international initiatives, such as those in the World Trade Organization (WTO) Working Group on Transparency in Government Procurement and the Free Trade Area of the Americas (FTAA) Negotiating Group on Government Procurement, including support for an FTAA Agreement on Transparency as an element of business facilitation, and on their progress toward acceding to the WTO Government Procurement Agreement.

List of Countries Designated as Beneficiary Countries for Purpose of the Caribbean Basin Economic Recovery Act (CBERA): Antigua and Barbuda, Aruba, the Bahamas, Barbados, Belize, Costa Rica,Dominica, the Dominican Republic; El Salvador; Grenada, Guatemala, Guyana, Haiti, Honduras,Jamaica, Nicaragua, Panama, St. Lucia, St. Vincent and the Grenadines, Trinidad and Tobago,Montserrat, Netherlands Antilles, Saint Kitts-Nevis, British Virgin Islands.

Charlene Barshefsky,
United States Trade Represenrative.

[FR Doc. 00-4210 Filed 2-22-00; 8:45 am]

BILLING CODE 3901-01-M